AGENCY FOR INTERNATIONAL DEVELOPMENT

Senior Executive Service (SES) Performance Review Board: Updating

AGENCY: Agency for International Development, Office of the Inspector General.

ACTION: Notice.

SUMMARY: This notice is hereby given of the appointment of members of the updated USAID OIG SES Performance Review Board.

EFFECTIVE DATE: November 26, 2002.

FOR FURTHER INFORMATION CONTACT: Michael G. Carroll, Assistant Inspector General for Management, Office of Inspector General, U.S. Agency for International Development, 1300 Pennsylvania Avenue, NW, Room 8.08-029, Washington, DC 20523-8700; telephone 202-712-0010; fax 202-216-3392; Internet e-mail address: mcarroll@usaid.gov (for e-mail messages, the subject line should include the following reference—USAID OIG SES Performance Review Board).

SUPPLEMENTARY INFORMATION: 5 U.S.C. 4314(b)(c) requires each agency to establish, in accordance with regulations prescribed by the Office of Personnel Management at 5 CFR part 430, subpart C and § 430.307 thereof in particular, one or more Senior Executive Service performance review boards. In order to ensure an adequate level of staffing and to avoid a constant series of recusals, these newly designated members of USAID's OIG SES Performance Review Board are being drawn, as in the past, primarily from the SES ranks of other agencies because USAID OIG only has five SES members. The board shall review and evaluate the initial appraisal of each USAID OIG senior executive's performance by his or her supervisor, along with any recommendations to the appointing authority relative to the performance of the senior executive. This notice updates the membership of the USAID OIG's SES Performance Review Board as it was last published.

Approved: November 26, 2002.

The following have been selected as regular members of the SES Performance Review Board of the U.S. Agency for International Development, Office of Inspector General:

James R. Ebbitt, Deputy Inspector General.

Adrienne Rish, Assistant Inspector General for Investigations.

Michael G. Carroll, Assistant Inspector General for Management.

Robert S. Perkins, Legal Counsel.

Bruce Crandlemire, Assistant Inspector General for Audit.

Aletha Brown, Inspector General, Equal Employment Opportunity Commission.

Melissa Heist, Assistant Inspector General for Audit, Environmental Protection Agency.

Edward Blansitt, Deputy Inspector General, Department of Commerce.

Michael Speedling, Assistant Inspector General for Investigations, Environmental Protection Agency.

Kwai Chan, Assistant Inspector General for Program Evaluation, Environmental Protection Agency.

Everett L. Mosley,
Inspector General, Agency for International Development.

[FR Doc. 02-31475 Filed 12-12-02; 8:45 am]

BILLING CODE 6116-01-P